DEPARTMENT OF LABOR

Occupational Safety and Health Administration

29 CFR Part 1926

Rigging Equipment for Material Handling Construction Standard; Correction and Technical Amendment

AGENCY: Occupational Safety and Health Administration (OSHA), Labor.

ACTION: Final rule; correction and technical amendment.

SUMMARY: OSHA is correcting its sling standard for construction titled “Rigging Equipment for Material Handling” by removing the rated capacity tables and making minor, nonsubstantive revisions to the regulatory text.

DATES: The effective date for the corrections and technical amendment to the standards is April 18, 2012.

FOR FURTHER INFORMATION CONTACT:

Press inquiries: Frank Meilinger, Director, Office of Communications, OSHA, U.S. Department of Labor, Room N-3647, 200 Constitution Avenue NW., Washington, DC 20210; telephone: (202) 693-1999.

General and technical information: Kenneth Stevanus, OSHA Office of Engineering Safety, OSHA, Room N-3621, U.S. Department of Labor, 200 Constitution Avenue NW., Washington, DC 20210; telephone: (202) 693-2260.

SUPPLEMENTARY INFORMATION:

Background

In OSHA's Standards Improvement Project-Phase III final rule, published on June 8, 2011, the Agency stated that it was amending its standards regulating slings for general industry, shipyard employment, and construction by removing outdated tables that specify safe working loads, and revising other provisions that referenced the outdated tables (see 76 FR at 33591 and 33597). To replace these tables, OSHA added requirements that prohibit employers from loading slings in excess of the recommended safe working load prescribed on identification markings located on, or attached to, each sling; these requirements also prohibit the use of slings that do not have such markings.

While OSHA removed the load-capacity tables for slings from § 1910.184 (general industry; tables N-184-1, and N-184-3 through N-184-22) and § 1915.118 (shipyard employment; tables G-1 through G-5, G-7 through G-8, and G-10), including references to these tables in § 1915.112 and § 1915.113, the Agency failed to include in the regulatory text provisions to remove the tables in § 1926.251 (construction; tables H-1, and H-3 through H-19), and redesignate Table H-2 to H-1 and Table H-20 to H-2. This notice, therefore, amends § 1926.251 by removing most of the existing tables (H-1, and H-3 through H-19), redesignating Table H-2 as Table H-1 and Table H-20 as Table H-2, and revising paragraphs (b)(5) and (c)(5) to indicate the new table number.

List of Subjects in 29 CFR Part 1926

Occupational safety and health, Construction, Shackles, Slings.

Authority and Signature

David Michaels, MPH, Ph.D., Assistant Secretary of Labor for Occupational Safety and Health, U.S. Department of Labor, 200 Constitution Avenue NW., Washington, DC 20210, authorized the preparation of this document. Accordingly, pursuant to Section 6 of 29 U.S.C. 655, Section 4 of 5 U.S.C. 553, Secretary of Labor's Order No. 1-2012 (77 FR 3912), and 29 CFR 1911.5.

Signed at Washington, DC, on April 9, 2012.
David Michaels,
Assistant Secretary of Labor for Occupational Safety and Health.

Accordingly, OSHA is amending 29 CFR part 1926 by making the following corrections and technical amendments:

PART 1926—SAFETY AND HEALTH REGULATIONS FOR CONSTRUCTION

Subpart H—Materials Handling, Storage, Use, and Disposal

1. Revise the authority citation for subpart H to read as follows:

Authority: 40 U.S.C. 3701; 29 U.S.C. 653, 655, 657; and Secretary of Labor's Order No. 12-71 (36 FR 8754), 8-76 (41 FR 25059), 9-83 (48 FR 35736), 1-90 (55 FR 9033), 4-2010 (75 FR 55355), or 1-2012 (77 FR 3912), as applicable. Section 1926.250 also issued under 29 CFR part 1911.

2. Amend § 1926.251 as follows:

a. Revise paragraph (b)(5) and (c)(5) introductory text;

b. Add a reserved paragraph (c)(5)(ii);

c. Remove Tables H-1 and H-3 through H-19; and

d. Redesignate Table H-2 as Table H-1 and Table H-20 as Table H-2.

The revisions read as follows:

§ 1926.251 Rigging equipment for material handling.

* * * * *

(b) * * *

(5) Whenever wear at any point of any chain link exceeds that shown in Table H-1, the assembly shall be removed from service.

* * * * *

(c) * * *

(5) When U-bolt wire rope clips are used to form eyes, Table H-2 shall be used to determine the number and spacing of clips.

* * * * *

[FR Doc. 2012-8881 Filed 4-17-12; 8:45 am]

BILLING CODE 4510-26-P